DEPARTMENT OF THE INTERIOR

Geological Survey

[GR23RB00TU77E00; OMB Control Number 1028-NEW]

Agency Information Collection Activities; Submission to the Office of Management and Budget for Review and Approval; Values Mapping for Planning in Regional Ecosystems (VaMPIRE) Public Participatory GIS Mapping Application

AGENCY: U.S. Geological Survey, Interior.

ACTION: Notice of information collection; request for comment.

SUMMARY: In accordance with the Paperwork Reduction Act (PRA), the U.S. Geological Survey (USGS) is proposing a new information collection.

DATES: Interested persons are invited to submit comments on or before December 28, 2022.

ADDRESSES: Written comments and recommendations for the proposed information collection should be sent within 30 days of publication of this notice to www.reginfo.gov/public/do/PRAMain. Find this particular information collection by selecting “Currently under 30-day Review—Open for Public Comments” or by using the search function. Written comments can also be sent by mail to U.S. Geological Survey, Information Collections Officer, 12201 Sunrise Valley Drive, MS 159, Reston, VA 20192; or by email to gs-info_collections@usgs.gov. Please reference OMB Control Number 1028-NEW in the subject line of your comments.

FOR FURTHER INFORMATION CONTACT: To request additional information about this Information Collection Request (ICR), contact Rudy Schuster by email at schusterr@usgs.gov, or by telephone at 970-226-9165. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on April 28, 2022 (87 FR 25288). We received one comment asking to receive a copy of the draft ICR. We responded that we would send the ICR once it is complete.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract:The USGS developed a Public Participatory GIS (PPGIS) mapping application to aid in gathering information from Bureau of Land Management (BLM) visitors about their uses of and values for public lands and waters. The BLM is mandated by the Federal Land and Policy Management Act of 1976 to manage public lands for multiple uses, including outdoor recreation and human use. This information collection would provide data on human uses of and values for public lands and waters for consideration during Federal planning, permitting, and management efforts. The PPGIS tool used to collect data is called the Values Mapping for Planning in Regional Ecosystems (VaMPIRE) application. VaMPIRE is a partnership with the BLM and is designed to gather spatially referenced data on the values people attach to places and the activities they do on BLM lands. The spatially referenced data can be used to identify landscape values; how proposed management actions might affect use and value; where potential conflicts might occur; and high-performing areas where multiple values can co-exist. The mapping application incorporates a survey designed to assess behavioral changes by the public based on land use and explores if visitors would change locations, activities, or frequency of visits given possible land-use change scenarios. VaMPIRE also identifies if there is an overall change in the value received from public lands under specified management changes.

This information collection would pilot test the use of VaMPIRE in three different locations, using different methodologies that are appropriate for each location and context. In the Moab (Utah) area, data will be collected online by emailing a link to the application and survey to visitors who reserved BLM campgrounds or permits in certain locations. In Mojave Trails National Monument (California), data will be collected online by emailing the link to interested-party email lists BLM maintains. In San Luis Valley (Colorado), data will be collected through in-person workshops to reach local community members.

Title of Collection: Public Participatory GIS mapping application and visitor survey.

OMB Control Number: 1028-NEW.

Form Number: None.

Type of Review: New.

Respondents/Affected Public: Individuals (Visitors to Bureau of Land Management Lands).

Total Estimated Number of Annual Respondents: 1,333.

Total Estimated Number of Annual Responses: 1,333.

Estimated Completion Time per Response: We estimate it will take on average 15 minutes to complete the full online survey, 3 minutes to complete the non-response survey, and 45 minutes to respond at an in-person workshop.

Total Estimated Number of Annual Burden Hours: 321 hours.

Respondent's Obligation: Voluntary.

Frequency of Collection: Respondents will provide information one time.

Total Estimated Annual Nonhour Burden Cost: None.

An agency may not conduct or sponsor, nor is a person required to respond to, a collection of information unless it displays a currently valid OMB control number.

The authority for this action is the PRA (44 U.S.C. 3501 et seq.).

Adrienne Bartlewitz,
Rocky Mountain Region Chief of Staff, U.S. Geological Survey.

[FR Doc. 2022-25803 Filed 11-25-22; 8:45 am]

BILLING CODE P